DEPARTMENT OF TRANSPORTATION

Office of the Secretary

[Docket Nos. OST-03-15138 and OST-03-15139]

Application of Aviation Concepts, Inc. for Certificate Authority

AGENCY: Department of Transportation.

ACTION: Notice of order to show cause (order 2003-7-18).

SUMMARY: The Department of Transportation is directing all interested persons to show cause why it should not issue an order finding Aviation Concepts, Inc., fit, willing, and able, and awarding it certificates of public convenience and necessity to engage in interstate and foreign charter air transportation of persons, property and mail.

DATES: Persons wishing to file objections should do so no later than July 29, 2003.

ADDRESSES: Objections and answers to objections should be filed in Dockets OST-03-15138 and OST-03-15139 and addressed to the Department of Transportation Dockets (SVC-124.1, Room PL-401), U.S. Department of Transportation, 400 Seventh Street, SW., Washington, DC 20590, and should be served upon the parties listed in Attachment A to the order.

FOR FURTHER INFORMATION CONTACT: Mr. Jim Lawyer, Air Carrier Fitness Division (X-56, Room 6401), U.S. Department of Transportation, 400 Seventh Street, SW., Washington, DC 20590, (202) 366-1064.

Dated: July 14, 2003.
Michael W. Reynolds,
Acting Assistant Secretary for Aviation and International Affairs.

[FR Doc. 03-18380 Filed 7-18-03; 8:45 am]

BILLING CODE 4910-62-P